DEPARTMENT OF TRANSPORTATION

Office of the Secretary

[Docket No. DOT-OST-2025-0600]

Senior Executive Service Performance Review Board Membership

AGENCY: Office of the Secretary, Department of Transportation (DOT).

ACTION: Notice of Performance Review Board (PRB) appointments.

SUMMARY: DOT published the names of the persons selected to serve on Departmental PRBs.

FOR FURTHER INFORMATION CONTACT: Anne Audet, Director, Departmental Office of Human Resource Management (202) 366-2478.

SUPPLEMENTARY INFORMATION: The persons named below may be selected to serve on one or more Departmental PRBs.

(Authority: 5 U.S.C. 4314(c)(4).)

Issued in Washington, DC on September 25, 2025.
Anne B. Audet,
Director, Departmental Office of Human Resource Management.

DEPARTMENT OF TRANSPORTATION

FEDERAL HIGHWAY ADMINISTRATION

BEZIO, BRIAN R

BIONDI, EMILY CHRISTINE

BRIGGS, VALERIE ANNETTE

BURROWS, SHAY K

CHRISTIAN, JAMES C

CRONIN, BRIAN P

CURTIS, STEPHANIE

DAVIS, DONALD E

FINFROCK, ARLAN E JR

FLEURY, NICOLLE M

FOUCH, BRIAN J

FRYE, ROBERT ANTHONY

HARDING, JOHN A

HARKINS, MICHAEL W

HARTMANN, JOSEPH L

HOGGE, BRIAN R.

JENSEN, GARY ALAN

KALLA, HARI

KEHRLI, MARK R

KNOPP, MARTIN C

KONOVE, ELISSA K

LEWIS, DAVID A

MARQUIS, RICHARD J

MARSHALL, DANA R

MCMASTER, SEAN KENNETH BR

NEHME, JEAN ANTOINE

NELSON, THOMAS L JR.

NESBITT, MICHAEL D

PAYNE, JAMES OROURKE III

PETTY, KENNETH II

RICHARDSON, CHRISTOPHER S

RITTER, ROBERT G

RUSNAK, ALLISON B

SANTIAGO, DAMARIS

SHEPHERD, GLORIA MORGAN

SIDDIQI, BASHARAT

THORNTON, NICHOLAS R

WILNER, MARCUS D

WINTER, DAVID R

YUNG, JESSIE L

FEDERAL MOTOR CARRIER SAFETY ADMINISTRATION

BECK, VALERIE S

COX, DAVID MATTHEW JR

ELISON, JESSE PHILLIP

HAMPTON, MICHAEL MADDEN

HERNANDEZ, SCOTT

HILL, JAMES JOSEPH III

LENFERT, WINSOME A

LIBERANTE, WENDY LOUISE

LIBERATORE, THOMAS JOSEPH

MINOR, LARRY W

NEMONS, PATRICK D

RIDDLE, KENNETH H.

STEELE, GEORGIA SHARLENE

THOMAS, PHILIP WALTER III

FEDERAL RAILROAD ADMINISTRATION

ALEXY, JOHN KARL

DAVIS, HAKIM R

DYER, WILLIAM PATRICK

FEELEY, ROBERT ANDREW

FIELDS, KYLE D

FINK, DAVID ARMSTRONG

GARLAND, JAMES JASON

GLUCK, STUART MURRAY

HAYWARD-WILLIAMS, CAROLYN

KOUL, NEERAJ

LONG, MICHAEL T

LONGLEY, MICHAEL M

NISSENBAUM, PAUL

OSTERHUES, MARLYS A

PATTERSON, MARK A

REYES-ALICEA, REBECCA

RIGGS, TAMELA LYNN

VAN NOSTRAND, CHRISTOPHER

FEDERAL TRANSIT ADMINISTRATION

ALLAHYAR, MARYAM

ALLEN, REGINALD E

BOKHARI, TARIQ SCOTT

BROOKINS, KELLEY

BUTLER, PETER S

CAIN, DANIEL

CULOTTA, MICHAEL L

DALTON-KUMINS, SELENE FAE

DELORENZO, JOSEPH P

FERRONI, MARK A

FLETCHER, SUSAN K

GARCIA CREWS, THERESA

LYSSY, GAIL C

MOLINARO, MARCUS JOSEPH

NIFOSI, DANA C.

OSBORNE BUTLER, CARRIE EL

PFISTER, JAMIE DURHAM

ROHDE, SUZANNE MARIE

TAYLOR, YVETTE G

TELLIS, RAYMOND S

WELBES, MATTHEW J

GREAT LAKES ST. LAWRENCE SEAWAY DEVELOPMENT CORPORATION

FISHER, ANTHONY JR

O'BERRY, DONNA

SCHARF, JEFFREY W

MARITIME ADMINISTRATION

BECKETT, COREY ANDREW

CHAPPELL, ASHLEY MARCIAL

GORE, CAMERON VON

HARRINGTON, DOUGLAS M

HELLER, DAVID M

KUMAR, SHASHI N

NOBLE, MICHAELA ELIZABETH

NUNAN, JOANNA

O'CONNOR, ELIZABETH

PAAPE, WILLIAM

SHEA, JOHN TIMOTHY

SIMMONS-HEALY, MELINDA B

WULF, DAVID

YI, SANG HYUN

NATIONAL HIGHWAY TRAFFIC SAFETY ADMINISTRATION

BAUMANN, ROLAND T III

CHEN, CHOU-LIN

CLAYTON, SEAN METRICE

DANIELSON, JACK

DOHERTY, JANE H

GATTI, JONATHAN D

HATIPOGLU, CEM

HINES, DAVID M

JOHNSON, TIM J

KOLODZIEJ, KERRY E

MATHEKE, OTTO G III

MORRISON, JONATHAN

SAUERS, BARBARA F

SIMSHAUSER, PETER J

SULLIVAN, EILEEN FALLON

TOPKA, TANYA L

VALLESE, JULIETTE M.

OFFICE OF THE SECRETARY OF TRANSPORTATION

ABRAHAM, JULIE

ALBRIGHT, JACK G

ALEXANDER, FELICIA LANISE

AUDET, ANNE

BARABAN, CINDY A

BARRY, MINDY

BUSKARD, BRIAN

BYRD, ANNE SANFORD

CAHILL, MATTHEW

CALLENDER, DUANE A

CARLSON, TERENCE W

COHEN, NEAL

COHEN, DANIEL

CONSTANTINE, PETER JOHN

COTE, GREGORY DAKENT

EDWARDS, DANIEL JOSEPH

EMMER, JACK OLIVER

ENLOE, CHARLES E

FARAJIAN, MORTEZA

FLEMING, GREGG G

GAUTREAUX, CATHY FOSTER

GEIER, PAUL M

GUTIERREZ, ALLEN MAURICIO

HALEM, MICHAEL ALLEN

HOMAN, TODD M

HUBBARD, RHEA ANN

HUYNH, JULI C

IRVINE, PETER D

JACKSON, RONALD A

JONES, CHRISHAUN P

KALETA, JUDITH S

KERN, DABNEY R

KING, DANIEL E.

LANG, JAMES M.

LANKENAU, MATTHEW

LEFEVRE, MARIA S.

LITTLETON, THOMAS

MARTIN, HAROLD W III

MATESIC, HANNAH MARIE

MCCARTNEY, ERIN P

MCCORMACK, RYAN JAMES

MEACHUM, CHARLES PETERSEN

MIDDLETON, GARY LEE

MOORE, CAROLINE ELIZABETH

MORGAN, DANIEL S.

MORGAN, OWEN ROY

ORNDORFF, ANDREW R

PIDUGU, PAVANKUMAR

POPKIN, STEPHEN M

SCHMITT, ROLF R

SESSIONS, KAREN DIEBEL

SHEIKH IBRAHIM, FIRAS

SHEPARD, DESHAWN

SIEGRIST, BENJAMIN JAY

SIMON, DOUGLAS A.

SIZEMORE, NATHANIEL TAYLO

SMITH, JARED LAINE

SMITH, LOREN ALLAN JR

SWAFFORD, LISA ANN

SZAKAL, KEITH J

SZATMARY, RONALD ALLEN JR

TANG, VINCENT

TAYLOR, BENJAMIN J

TIMOTHY, DARREN P

TOROSSIAN, CONNOR ARTHYN

URE, DEVIN L.

USUAL, JAMES A

WALKER, JONATHAN B

WASHINGTON, KEITH E

WIED, JASON GERALD

WORKIE, BLANE A

PIPELINE AND HAZARDOUS MATERIALS SAFETY ADMINISTRATION

COYLE, KEITH J

DAUGHERTY, LINDA

DAVIS, CAREY

HARR, TRICIA M

KOCHMAN, BENJAMIN DAVID

QUADE, WILLIAM A III

RELES, MICHAEL E

[FR Doc. 2025-18863 Filed 9-26-25; 8:45 am]

BILLING CODE 4910-9X-P